SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before April 2, 2001.

ADDRESSES: Send all comments regarding whether these information collections are necessary for the proper performance of the function of the agency, whether the burden estimate is accurate, and if there are ways to minimize the estimated burden and enhance the quality of the collections, to Tom Mueller, Deputy Associate Administrator, Office of Small Business Development Centers, Small Business Administration, 409 3rd Street, SW., Suite 4600, Washington, DC 20416.

FOR FURTHER INFORMATION CONTACT: Tom Mueller, Deputy Associate Administrator, (202) 205-7301 or Curtis B. Rich, Management Analyst, (202) 205-7030.

SUPPLEMENTARY INFORMATION: Title: Other Funding Under the SBDC Umbrella.

Form No: 2186.

Description of Respondents: Small Business Development Centers.

Annual Responses: 58.

Annual Burden: 29.

Jacqueline White,
Chief, Administrative Information Branch.

[FR Doc. 01-2677 Filed 1-30-01; 8:45 am]

BILLING CODE 8025-01-U